DEPARTMENT OF DEFENSE

Department of the Army, Corps of Engineers

Public Forum To Be Held by Vicksburg District

AGENCY: U.S. Army Corps of Engineers, Vicksburg District, DOD.

ACTION: Notice of open meeting.

SUMMARY: The purpose of the meeting: (1) Briefing by Vicksburg District Commander on background and general status of the J. Bennett Johnson Waterway Project; (2) Comments by representatives of the Red River Valley Association and the Red River Waterway Commission re economic and recreation benefits of the project to the region; (3) Comments from Senator Mary Landrieu re the current status and potential future of the waterway and region; (4) A public forum with statements and presentations by public participations on matters pertaining to water resources issues in the Red River Valley.

DATES: The meeting will be held at 2:30 p.m. on April 17, 2000.

ADDRESSES: The meeting will be held on board the MISSISSIPPI V at City Front, Alexandria, LA.

FOR FURTHER INFORMATION CONTACT: Mr. Greg Rottman, telephone, (601) 631-5010.

John A. Hall,
Alternate Army Federal Register Liaison Officer.

[FR Doc. 00-8204 Filed 4-3-00; 8:45 am]

BILLING CODE 3710-PU-M